ENVIRONMENTAL PROTECTION AGENCY

40 CFR Part 62

[KY-200334(b); FRL-7542-5]

Approval and Promulgation of State Plan for Designated Facilities and Pollutants; Commonwealth of Kentucky and Jefferson County, KY

AGENCY: Environmental Protection Agency (EPA).

ACTION: Proposed rule.

SUMMARY: EPA is proposing to approve the Commercial and Industrial Solid Waste Incineration (CISWI) units section 111(d) negative declarations submitted by the Commonwealth of Kentucky (state) and Jefferson County, Kentucky (local). These negative declarations certify that CISWI units subject to the requirements of sections 111(d) and 129 of the Clean Air Act do not exist in the Commonwealth of Kentucky and Jefferson County, Kentucky. In the Final Rules Section of this Federal Register, the EPA is approving the negative declarations submitted by the Commonwealth of Kentucky and Jefferson County, Kentucky, as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before September 15, 2003.

ADDRESSES: Comments may be submitted by mail to: Joydeb Majumder, Air Toxics and Monitoring Branch, U.S. Environmental Protection Agency Region 4, 61 Forsyth Street, SW., Atlanta, Georgia 30303-8960. Comments may also be submitted electronically, or through hand delivery/courier. Please follow the detailed instructions described in the direct final rule, Supplementary Information section (sections I.B.1. i. through iii.) which is published in the Rules Section of this Federal Register.

FOR FURTHER INFORMATION CONTACT: Joydeb Majumder, Air Toxics and Monitoring Branch, or Michele Notarianni, Air Planning Branch, Air, Pesticides and Toxics Management Division, U.S. Environmental Protection Agency Region 4, 61 Forsyth Street, SW., Atlanta, Georgia 30303-8960. Mr. Majumder can also be reached by telephone at (404) 562-9121 and via electronic mail at majumder.joydeb@epa.gov. Ms. Notarianni may be reached by telephone at (404) 562-9031 and via electronic mail at notarianni.michele@epa.gov.

SUPPLEMENTARY INFORMATION: For additional information, see the direct final rule which is published in the Rules Section of this Federal Register.

Dated: July 23, 2003.
A. Stanley Meiburg,
Acting Regional Administrator, Region 4.

[FR Doc. 03-20429 Filed 8-13-03; 8:45 am]

BILLING CODE 6560-50-P